DEPARTMENT OF THE INTERIOR

National Park Service

National Capital Memorial Advisory Commission; Notice of Public Meeting

AGENCY: Department of the Interior, National Park Service.

ACTION: Notice of meeting.

SUMMARY: Notice is hereby given that the National Capital Memorial Advisory Commission (the Commission) plans to meet at the National Building Museum, Room 312, 401 F Street, NW., Washington, DC, on Friday, December 4, at 10 a.m.

The meeting will be open to the public. Persons who wish to file a written statement or testify at the meeting or who want further information concerning the meeting may contact Ms. Nancy Young, Secretary to the Commission. The purpose of the meeting will be to discuss currently authorized and proposed memorials in the District of Columbia and its environs.

In addition to discussing general matters and conducting routine business, the Commission will review three Action Items:

Action Items

(1) H.R. 482, a bill to authorize the rededication of the District of Columbia War Memorial as a National and District of Columbia World War I Memorial to honor the sacrifices made by American veterans of World War I.

(2) H.R. 3425, a bill to authorize the Fair Housing Commemorative Foundation to establish a commemorative work on Federal land in the District of Columbia to commemorate the enactment of the Fair Housing Act in 1968.

(3) H.R. 1466, A bill to amend title 40, United States Code, to authorize the National Capital Planning Commission to designate and modify the boundaries of the National Mall area in the District of Columbia reserved for the location of commemorative works of preeminent historical and lasting significance to the United States and other activities, to require the Secretary of the Interior and the Administrator of General Services to make recommendations for the termination of the authority of a person to establish a commemorative work in the District of Columbia and its environs, and for other purposes.

Non-action Items scheduled for discussion are:

Non-Action Items

(1) A presentation from the John Adams Memorial Foundation on the status of an alternative sites analysis being prepared for the John Adams Memorial.

(2) Review of the Commission's bylaws.

(3) Update on memorial legislation under consideration by the 111th Congress.

DATES: Friday, December 4, 2009.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: The Commission was established by Public Law 99-652, the Commemorative Works Act (40 U.S.C. Chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service;

Administrator, General Services Administration;

Chairman, National Capital Planning Commission;

Chairman, Commission of Fine Arts;

Mayor of the District of Columbia;

Architect of the Capitol;

Chairman, American Battle Monuments Commission;

Secretary of Defense.

Dated: October 22, 2009.
Margaret O'Dell,
Regional Director, National Capital Region.

[FR Doc. E9-27731 Filed 11-18-09; 8:45 am]

BILLING CODE 4312-JK-P